DEPARTMENT OF JUSTICE

Antitrust Division

Notice Pursuant to the National Cooperative Research and Production Act of 1993—National Warheads and Energetics Consortium

Notice is hereby given that, on February 19, 2013, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, AMTEC Corporation, Janesville, WI; Applied Research Associates, Albuquerque, NM; Capco, Inc., Grand Junction, CO; Design West Technologies, Inc., Tustin, CA; DHPC Technologies, Inc., Woodbridge, NJ; DSE, Inc., Tampa, FL; Excet, Inc., Springfield, VA; Materials Sciences Corporation, Horsham, PA; Systems and Materials Research Corporation, Austin, TX; and Targeted GeoSystems, LLC, Madison, AL, have been added as parties to this venture.

Also, Laserlith Corporation, Grand Forks, ND; RDM Engineering, LLC, East Brunswick, NJ; and Sabre Consulting and Training LLC, Wharton, NJ, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on November 13, 2012. A notice was published in the Federal Register pursuant to Section 6(b) of the Act on December 11, 2012 (77 FR 73676).

Patricia A. Brink,
Director of Civil Enforcement, Antitrust Division.

[FR Doc. 2013-06277 Filed 3-18-13; 8:45 am]

BILLING CODE P